DEPARTMENT OF COMMERCE

National Oceanic and Atmospheric Administration

Proposed Information Collection; Comment Request; Aviation Safety Program

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 5, 2005.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Debora Barr, (301) 713-3435, extension 103 or Debora.R.Barr@noaa.gov.

SUPPLEMENTARY INFORMATION:

I. Abstract

NOAA has a responsibility to provide a safe working environment for its workforce and partners who are exposed to the risks associated with flying on behalf of the Agency. NOAA's aviation safety policy requires all individuals who fly on aircraft owned or operated by NOAA for mission operations, and all NOAA personnel who fly on any aircraft for mission operations in the performance of their official duties to be medically screened to identify individuals that could be placed in a work environment (flight) with the potential to aggravate existing medical conditions.

NOAA Marine and Aviation Operations (NMAO) administers NOAA's aviation safety policy through the Aviation Safety Program. NMAO requests medical history information from individuals requesting clearance to fly on behalf of NOAA mission operations to determine the individual's fitness for flight. This information, upon receipt, is reviewed by the NOAA Aviation Medical Examiner to determine whether or not to grant a NOAA Aeromedical Clearance Notice, receipt of which, authorizes participation in flight activities on behalf of NOAA.

II. Method of Collection

Applicants submit information via a secure web-based form or paper application. Telephone calls may be required to clarify information submitted in the application. Methods of submittal include the Internet and facsimile transmission.

III. Data

OMB Number: None.

Form Number: None.

Type of Review: Regular submission.

Affected Public: Not-for-profit institutions, Federal Government, State, local or Tribal government.

Estimated Number of Respondents: 1,000.

Estimated Time Per Response: 15 minutes.

Estimated Total Annual Burden Hours: 250.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 29, 2005.
Gwellnar Banks,
Management Analyst, Office of the Chief Information Officer.

[FR Doc. 05-19893 Filed 10-4-05; 8:45 am]

BILLING CODE 3510-22-P